TENNESSEE VALLEY AUTHORITY

Public Meeting To Receive Comments on the Draft Environmental Impact Statement for Addition of Electric Generation Baseload Capacity in Franklin County, TN

AGENCIES: Tennessee Valley Authority and U.S. Air Force.

ACTION: Notice of meeting.

SUMMARY: The Tennessee Valley Authority (TVA) with the U.S. Air Force will hold a public meeting to receive comments on the Draft Environmental Impact Statement (DEIS) titled, “Addition of Electric Generation Baseload Capacity in Franklin County, Tennessee.” The meeting will be held on July 10, 2001, at the University of Tennessee Space Institute Auditorium near Tullahoma, Tennessee. Registration for the meeting will begin at 5:30 p.m. Central Time and the meeting will begin at 6 p.m. Central Time. TVA staff will be available to answer questions concerning the environmental review process, the project schedule and other details of the proposed power plant. The public will then have an opportunity to provide oral or written comments on the DEIS. Comments may be submitted on comment cards available at the meeting, or subsequently mailed by the date indicated to the address provided below. Comments will also be accepted by mail or e-mail at the addresses listed below.

DATES: The meeting will be held on Tuesday, July 10 at 6 p.m. Central Time. Registration for the meeting will begin at 5:30 p.m. Central Time. Comments on the DEIS must be postmarked or e-mailed no later than July 30, 2001, to ensure consideration. Late comments will receive every consideration possible.

ADDRESSES: The meeting will be held at the Auditorium of the University of Tennessee Space Institute, 411 B. H. Goethert Parkway, Tullahoma, Tennessee. Written comments should be sent to Bruce L. Yeager, Senior Specialist, National Environmental Policy Act, Tennessee Valley Authority, Mail Stop WT 8C, 400 West Summit Hill Drive, Knoxville, Tennessee 37902-1499. Comments may also be e-mailed to blyeager@tva.gov.

FOR FURTHER INFORMATION CONTACT: Bruce L. Yeager, Senior Specialist, National Environmental Policy Act, Tennessee Valley Authority, Mail Stop WT 8C, 400 West Summit Hill Drive, Knoxville, Tennessee 37902-1499.

SUPPLEMENTARY INFORMATION:

Project Description

In accordance with the National Environmental Policy Act (NEPA), regulations specified in Title 40 of the Code of Federal Regulations, parts 1500-1508, and implementing procedures of the TVA and U.S. Air Force, TVA as lead agency, and the U.S. Air Force as a cooperating agency, have prepared a Draft Environmental Impact Statement on TVA's proposal to construct a natural gas-fired combined cycle power plant in Franklin County, Tennessee. TVA and the U.S. Air Force are using the EIS process and meetings, such as that currently announced, to obtain public involvement on this proposal. Public comment is invited concerning the alternatives and environmental issues addressed as a part of this DEIS.

This DEIS tiers from TVA's Energy Vision 2020: An Integrated Resource Plan and Final Programmatic Environmental Impact Statement. Energy Vision 2020 was completed in December 1995 and a Record of Decision issued on February 28, 1996 (61 FR 7572). Energy Vision 2020 analyzed a full range of supply-side and demand-side options to meet customer energy needs for the period 1995 to 2020. These options were ranked using several criteria including environmental performance. Favorable options were formulated into strategies. A group of options drawn from several effective strategies was chosen as TVA's preferred alternative. The supply-side options selected to meet peaking and baseload capacity needs through the 2005 period included: (1) Addition of simple cycle or combined cycle combustion turbines to TVA's generation system, (2) purchase of call options for peaking or baseload capacity, and (3) market purchases of peaking or baseload capacity. Because Energy Vision 2020 identified and evaluated alternative supply-side and demand-side energy resources and technologies for meeting peak and baseload capacity needs, the present DEIS does not re-evaluate those alternatives. This DEIS focuses on the site-specific impacts of constructing and operating a combustion turbine combined cycle plant at one of the two candidate sites.

A Notice of Intent for the EIS appeared in the Federal Register on March 14, 2001. A locally publicized public scoping meeting was held on March 8, 2001, at the same location as the presently announced meeting. This meeting was publicized through notices in local newspapers, by TVA press releases, and in meetings between TVA officials and local elected officials preceding the public meetings. The period for public scoping comments for the EIS closed April 16, 2001. A Notice of Availability of the DEIS was published in the Federal Register on June 15, 2001 and the DEIS has been circulated for comment to agencies, organizations and individuals previously requesting it. Copies of the DEIS have also been placed for public review in the Argie Cooper Public Library in Shelbyville, Tennessee; Franklin County Public Libraries in Fayetteville and Winchester, Tennessee; Moore County Public Library in Lynchburg, Tennessee; the Lannon Memorial Public Library in Tullahoma and the Manchester Public Library in Manchester, Tennessee.

The proposed power plant would provide 510 megawatts (MWs) of intermediate baseload generating capacity as early as June 2003 at one of two sites. In addition to the No Action alternative, two alternative sites, located on the southwestern portion of Arnold Air Force base, are under consideration. Use of either of these sites would require approval by the U.S. Air Force. The proposed sites are currently undeveloped for industrial purposes and are either forested or in pasture. Under the preferred alternative (construct and operate the combined cycle plant at Site 4 in Franklin County, Tennessee), approximately 135 acres of land would be utilized, of which 65 acres would be disturbed during construction. Under the No Action Alternative TVA would not construct the plant at either of the sites. TVA would either undertake no new activities to meet anticipated demands by June 2003 for baseload power, or would rely exclusively on options from the Energy Vision 2020 portfolio that do not involve construction and operation of new TVA fossil power capacity.

Candidate sites were identified through a detailed screening process that considered: (1) TVA's transmission system capacity at the locale; (2) reliable and economical long-term supply of natural gas; (3) engineering suitability of the site; (4) compatibility with surrounding land use; and (5) environmental factors including wetlands, floodplains, water supply, water quality, air quality, and historic and archaeological resources.

An installed plant would consist of two GE 7FA combustion turbine units, each configured with a heat recovery steam generator (HRSG). Steam produced in the HRSGs would be sent to a GE D11 steam turbine. Electricity would be produced by both the combustion turbines and the steam turbine. Natural gas would be the sole fuel. To control nitrogen oxides ( NOX) emissions, turbines would employ dry low NOX burners and selective catalytic reduction systems. Excavation would be required to construct foundations for the turbine units, HRSGs, cooling towers, steam turbine, switchyard, and other components. A 500-kV transmission line would be constructed to the existing TVA Franklin Substation located nearby, and a transmission line would be constructed from the local distribution system to obtain construction/emergency power to the site. Water supply and wastewater discharge pipelines would be constructed to Woods Reservoir. Potable water would be obtained by tapping into a local supply line form Estill Springs. A short natural gas pipeline would be constructed to connect with pipelines owned by East Tennessee Natural Gas Company which pass a few miles to the south of the proposed sites. The local access road, Substation Road, would be upgraded from local major highways (Wattendorf Highway and Northshore Road) to the chosen site. Other appurtenances and ancillary equipment could include transformers, demineralized-water supply, parking areas, and support buildings, as well as upgrades to the main supply line of East Tennessee Natural Gas Company.

The DEIS describes the existing environmental and socioeconomic resources at and in the vicinity of each candidate site that would be affected by construction and operation of a power plant. TVA's and the U.S. Air Force's evaluation of environmental impacts to these resources include the potential impacts on air quality, water quality of surface and groundwaters, floodplains and flood risk, aquatic and terrestrial ecology, endangered and threatened species, wetlands, aesthetics and visual resources, noise, safety and health, land use, seismology, recreation, historic and archaeological resources, and socioeconomic resources.

After consideration of agency and public comments on the DEIS, including those received at the public meeting on July 10, 2001, TVA and the U.S. Air Force will prepare a Final EIS by September 2001.

Dated: June 26, 2001.
Jon M. Loney,
Manager, NEPA Administration, Environmental Policy & Planning.

[FR Doc. 01-16550 Filed 6-29-01; 8:45 am]

BILLING CODE 8120-08-U